DEPARTMENT OF HEALTH AND HUMAN SERVICES

Centers for Disease Control and Prevention

[60Day-12-12PS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Kimberly S. Lane, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Get Yourself Tested (GYT) Campaign—New—National Center for HIV/AIDS, Viral Hepatitis, STD and TB Prevention (NCHHSTP), Centers for Disease Control and Prevention (CDC).

Background and Brief Description

The purpose of this data collection is to evaluate the reach and impact of the Get Yourself Tested (GYT) campaign. The campaign is aimed at young people (ages 15-25) and its goal is to encourage STD testing, conversation about sexual health, and awareness of Sexually Transmitted Diseases, (STDs) and Human Immunodeficiency Virus (HIV). Evaluation of GYT will be based on data collected from 4,000 young adults including minority youth. The number of participants is based on the need to represent all categories of race/ethnicity, sex, age, and geographic region in the survey sample. In order to ensure a valid statistical comparison between even the smallest subsamples of the data, the sample size needs to have approximately 80 youth from each of the 50 states. The data will represent the nation's youth ages 15-25. The data will be collected through a 30-minute, web-based survey. The survey is 30 minutes long because of the complex set of behaviors we are trying to measure; also, data from past surveys indicate that 30 minutes is the most we can expect youth to devote to surveys on this topic. Data from the survey will then be quantitatively (and in rare instances, qualitatively) evaluated.

Collection of this information will allow CDC to (1) evaluate whether the GYT campaign is reaching the appropriate target audience; (2) identify messages the audience is taking away from GYT; (3) determine whether individuals who saw the campaign are more likely to engage in target behaviors and their mediators; and (4) determine whether perceived norms around testing, treatment, and sexual health vary between people who have seen the campaign and those who have not. The information obtained from the proposed data collection will be used by CDC to decide whether to improve, update and continue the GYT campaign and to determine whether GYT is able or unable to impact norms and behaviors related to STD testing. It will also be used to inform future efforts to communicate with the public about STD/HIV testing.

Because the GYT campaign targets populations with higher rates of STD/HIV than the general population, it is essential to examine the effectiveness of this communication to determine whether youth receive the message. Evidence-based criteria established by the GYT evaluation will guide the campaign's future. “Additionally, this effort will enhance STD/HIV communication with the public as well as service providers.”

CDC, the National Association of City and County Health Officials (NACCHO) and Knowledge Networks will disseminate the study results to the public through reports prepared for or by CDC, NACCHO and Knowledge Networks and through peer-reviewed journal articles and related presentations. All releases of information will be reviewed and approved by CDC and partner organizations involved with GYT.

There is no cost to participants only their time only.

Annualized Burden Hours
Respondents | Form name | Number of respondents | Number of responses per respondent | Average burden per response (in hours) | Total burden in hours
Young adults and minority youth | Web-based survey | 4000 | 1 | 30/60 | 2000
|  | 4000 |  |  | 2000

Dated: August 16, 2012.
Ron A. Otten,
Director, Office of Scientific Integrity (OSI), Office of the Associate Director for Science (OADS), Office of the Director, Centers for Disease Control and Prevention.

[FR Doc. 2012-20673 Filed 8-21-12; 8:45 am]

BILLING CODE 4163-18-P